DEPARTMENT OF COMMERCE

International Trade Administration

[A-570-133, C-570-134]

Certain Metal Lockers and Parts Thereof From the People's Republic of China: Antidumping and Countervailing Duty Orders

AGENCY: Enforcement and Compliance, International Trade Administration, Department of Commerce.

SUMMARY: Based on the affirmative final determinations by the Department of Commerce (Commerce) and the International Trade Commission (ITC), Commerce is issuing antidumping duty (AD) and countervailing duty (CVD) orders on certain metal lockers and parts thereof (metal lockers) from the People's Republic of China (China).

DATES: Applicable August 20, 2021.

FOR FURTHER INFORMATION CONTACT: Laurel LaCivita or Patrick Barton at (202) 482-4243 or (202) 482-0012, respectively (AD), and Alex Cipolla or Charles Doss at (202) 482-4956 or (202) 482-4474, respectively (CVD); AD/CVD Operations, Office III, Enforcement and Compliance, International Trade Administration, U.S. Department of Commerce, 1401 Constitution Avenue NW, Washington, DC 20230.

SUPPLEMENTARY INFORMATION:

Background

In accordance with sections 705(d) and 735(d) of the Tariff Act of 1930, as amended (the Act), on July 7, 2021, Commerce published its affirmative final determinations in the CVD and less-than-fair-value (LTFV) investigations of metal lockers from China.¹ On August 13, 2021, the ITC notified Commerce of its final determinations, pursuant to sections 705(d) and 735(d) of the Act, that an industry in the United States is materially injured by reason of subsidized and LTFV imports of metal lockers from China, within the meaning of sections 705(b)(1)(A)(i) and 735(b)(1)(A)(i) of the Act.²

¹ See Certain Metal Lockers and Parts Thereof from the People's Republic of China: Final Affirmative Determination of Sales at Less Than Fair Value, 86 FR 35737 (July 7, 2021) (LTFV Final Determination); and Certain Metal Lockers and Parts Thereof from the People's Republic of China: Final Affirmative Countervailing Duty Determination, 86 FR 35741 (July 7, 2021).

² See ITC Notification Letter, Investigation Nos. 701-TA-639 and 641-642 and 731-TA-1475-1479, 1481-1483, and 1485-1492 (Final) dated August 13, 2021 (ITC Notification Letter).

Scope of the Orders

The products covered by these orders are metal lockers from China. For a full description of the scope of these orders,see the Appendix to this notice.

AD Order

As stated above, on August 13, 2021, in accordance with section 735(d) of the Act, the ITC notified Commerce of its final determination that an industry in the United States is materially injured within the meaning of section 735(b)(1)(A)(i) of the Act by reason of imports of metal lockers from China that are sold in the United States at LTFV.³ Therefore, in accordance with sections 735(c)(2) and 736 of the Act, Commerce is issuing this AD order. Because the ITC determined that LTFV imports of metal lockers from China are materially injuring a U.S. industry, unliquidated entries of subject merchandise from China, entered or withdrawn from warehouse, for consumption, are subject to the assessment of antidumping duties.

³ See ITC Notification Letter.

Therefore, in accordance with section 736(a)(1) of the Act, Commerce intends to direct U.S. Customs and Border Protection (CBP) to assess, upon further instruction by Commerce, antidumping duties equal to the amount by which the normal value of the merchandise exceeds the export price (or constructed export price) of the merchandise for all relevant entries of metal lockers from China. Antidumping duties will be assessed on unliquidated entries of metal lockers from China entered, or withdrawn from warehouse, for consumption on or after February 11, 2021, the date of publication of the AD Preliminary Determination, but will not include entries occurring after the expiration of the provision measures period and before publication of the ITC's final injury determination, as further described below.⁴

⁴ See Certain Metal Lockers and Parts Thereof from the People's Republic of China: Preliminary Affirmative Determination of Sales at Less Than Fair Value, Postponement of Final Determination and Extension of Provisional Measures, 86 FR 9051 (February 11, 2021) (AD Preliminary Determination).

Continuation of Suspension of Liquidation—AD

Except as noted in the “Provisional Measures—AD” section of this notice, in accordance with section 735(c)(1)(B) of the Act, Commerce intends to instruct CBP to continue to suspend liquidation on all relevant entries of metal lockers from China entered, or withdrawn from warehouse for consumption on or after the date of publication of the ITC's final affirmative injury determination in the Federal Register. These instructions suspending liquidation will remain in effect until further notice.

For each producer and exporter combination, Commerce also intends to instruct CBP to require cash deposits equal to the estimated weighted-average dumping margins indicated in the tables below, adjusted by the relevant subsidy offsets. Accordingly, effective on the date of publication in the Federal Register of the notice of the ITC's final affirmative injury determinations, CBP must require, at the same time as importers would normally deposit estimated duties on subject merchandise, a cash deposit equal to the rates listed in the table below: ⁵

⁵ See section 736(a)(3) of the Act.

Exporter | Producer | Estimated weighted- average dumping margin | Cash deposit rate (adjusted for subsidy offsets) (percent)
Zhejiang Xingyi Metal Products Co., Ltd./Xingyi Metalworking Technology (Zhejiang) Co., Ltd | Zhejiang Xingyi Metal Products Co., Ltd./Xingyi Metalworking Technology (Zhejiang) Co., Ltd | 21.25 | 10.71
Geelong Sales (Macao Commercial Offshore) Limited (a.k.a. Geelong Sales (MCO) Limited, Geelong Sales (Macao Commercial) Limited, and Geelong Sales (MC) Limited) | Zhongshan Geelong Manufacturing Co. Ltd | 21.25 | 10.71
Hangzhou Evernew Machinery & Equipment Company Limited | Zhejiang Yinghong Metalworks Co., Ltd | 21.25 | 10.71
Hangzhou Zhuoxu Trading Co., Ltd | Shanghai Asi Building Materials Co., Ltd | 21.25 | 10.71
Hangzhou Zhuoxu Trading Co., Ltd | Luoyang Mingxiu Office Furniture Co., Ltd | 21.25 | 10.71
Hangzhou Zhuoxu Trading Co., Ltd | Luoyang Wandefu Import and Export Trading Co. Ltd | 21.25 | 10.71
Hangzhou Zhuoxu Trading Co., Ltd | Zhejiang Xingyi Metal Products Co., Ltd | 21.25 | 10.71
Jiaxing Haihong Mechanical and Electrical Technology Co. Ltd | Zhejiang Steelrix Office Furniture Co., Ltd | 21.25 | 10.71
Kunshan Dongchu Precision Machinery Co., Ltd | Kunshan Dongchu Precision Machinery Co., Ltd | 21.25 | 10.71
Luoyang Hynow Import and Export Co., Ltd | Luoyang Jiudu Golden Cabinet Co., Ltd | 21.25 | 10.71
Luoyang Shidiu Import and Export Co., Ltd | Luoyang Yuabo Office Machinery Co., Ltd | 21.25 | 10.71
Luoyang Steelart Office Furniture Co., Ltd | Luoyang Yongwei Office Furniture Co., Ltd | 21.25 | 10.71
Luoyang Steelart Office Furniture Co., Ltd | Luoyang Zhuofan Steel Product Factory | 21.25 | 10.71
Luoyang Steelart Office Furniture Co., Ltd | Luoyang Flyer Office Furniture Co., Ltd | 21.25 | 10.71
Pinghu Chenda Storage Office Co., Ltd | Pinghu Chenda Storage Office Co., Ltd | 21.25 | 10.71
Tianjin Jia Mei Metal Furniture Ltd | Tianjin Jia Mei Metal Furniture Ltd | 21.25 | 10.71
China-Wide Entity |  | 322.25 | 311.71

Because the estimated weighted-average dumping margin is zero for subject merchandise produced by Hangzhou Jusheng Metal Products Co., Ltd. and exported by Hangzhou Xline Machinery & Equipment Co., Ltd., entries of shipments of subject merchandise from this producer/exporter combination are excluded from the AD order on subject merchandise from China. On the basis of the LTFV Final Determination for this producer/exporter combination, we ordered CBP to liquidate entries of subject merchandise for this producer/exporter combination, entered or withdrawn from warehouse, for consumption on or after February 11, 2021, without regard to duties and to refund cash deposits. This exclusion will not be applicable to merchandise exported to the United States by these respondents in any other producer/exporter combination or by third parties that sourced subject merchandise from the excluded producer/exporter combinations.

Provisional Measures—AD

Section 733(d) of the Act states that suspension of liquidation pursuant to an affirmative preliminary determination may not remain in effect for more than four months, except where exporters representing a significant proportion of exports of the subject merchandise request that Commerce extend the four-month period to no more than six months. At the request of exporters that account for a significant proportion of metal lockers from China, Commerce extended the four-month period to six months in this AD investigation.⁶ Commerce published the AD Preliminary Determination in this investigation on February 11, 2021.⁷

⁶ See AD Preliminary Determination, 86 FR at 9053.

⁷ See AD Preliminary Determination.

Therefore, the extended provisional measures period, beginning on the date of publication of the AD Preliminary Determination, ended on August 9, 2021. Therefore, in accordance with section 733(d) of the Act, Commerce will instruct CBP to terminate the suspension of liquidation and to liquidate, without regard to antidumping duties, unliquidated entries of metal lockers from China entered, or withdrawn from warehouse, for consumption after August 9, 2021, the final day on which the provisional measures were in effect, until and through the day preceding the date of publication of the ITC's final affirmative injury determinations in the Federal Register. Suspension of liquidation and the collection of cash deposits will resume on the date of publication of the ITC's final determinations in the Federal Register.

CVD Order

As stated above, on August 13, 2021, in accordance with section 705(d) of the Act, the ITC notified Commerce of its final determination that an industry in the United States is materially injured within the meaning of section 705(b)(1)(A)(i) of the Act by reason of subsidized imports of metal lockers from China.⁸ Therefore, in accordance with sections 705(c)(2) and 706 of the Act, Commerce is issuing this CVD order. Because the ITC determined that subsidized imports of metal lockers from China are materially injuring a U.S. industry, unliquidated entries of subject merchandise from China entered, or withdrawn from warehouse, for consumption, are subject to the assessment of countervailing duties.

⁸ See ITC Notification Letter.

Therefore, in accordance with section 706(a)(1) of the Act, Commerce intends to direct CBP to assess, upon further instruction by Commerce, countervailing duties on unliquidated entries of subject merchandise from China entered, or withdrawn from warehouse, for consumption on or after December 14, 2020, the date of publication of the CVD Preliminary Determination, but will not include entries occurring after the expiration of the provisional measure period and before the publication of the ITC's final injury determination under section 705(b) of the Act, as further described in the “Provisional Measures—CVD” section of this notice.⁹

⁹ See Certain Metal Lockers and Parts Thereof from the People's Republic of China: Preliminary Affirmative Countervailing Duty Determination and Alignment of Final Determination with Final Antidumping Duty Determination, 85 FR 80771 (December 14, 2020) (CVD Preliminary Determination).

Suspension of Liquidation and Cash Deposits—CVD

In accordance with section 706 of the Act, Commerce intends to instruct CBP to reinstitute the suspension of liquidation of all relevant entries of metal lockers from China, effective on the date of publication of the ITC's final affirmative injury determination in the Federal Register, and to assess, upon further instruction by Commerce, pursuant to section 706(a)(1) of the Act, countervailing duties for each entry of subject merchandise in an amount based on the net countervailable subsidy rates below. On or after the date of publication of the ITC's final injury determination in the Federal Register, CBP must require, at the same time as importers would normally deposit estimated duties on subject merchandise, a cash deposit for each entry of subject merchandise equal to the subsidy rates listed below.¹⁰ These instructions suspending liquidation will remain in effect until further notice. The all-others rate applies to all producers or exporters not specifically listed below, as appropriate:

¹⁰ See section 706(a)(3) of the Act.

Company | Subsidy rate (percent)
Zhejiang Xingyi Metal Products Co., Ltd | 24.66
Changshu Taron Machinery Equipment Manufacturing Co., Ltd | 131.51
Guangdong Yuhua Building Materials Co., Ltd | 131.51
Jiangsu Tongrun Tool Cabinet Co., Ltd | 131.51
Luoyang Mas Younger Office Furniture Co./Luoyang Mas Younger Export and Import Co | 131.51
Luoyang Shidiu Import and Export Co., Ltd | 131.51
Suzhou Yuanda Commercial Products Co. Ltd | 131.51
Winnsen Industry Co., Ltd | 131.51
Xiamen Headleader Technology | 131.51
All Others | 24.66

Provisional Measures—CVD

Section 703(d) of the Act states that the suspension of liquidation pursuant to an affirmative preliminary determination may not remain in effect for more than four months. Commerce published the CVD Preliminary Determination on December 14, 2020.¹¹ Accordingly, the provisional measures period, beginning on the date of publication of the CVD Preliminary Determination, ended on April 12, 2021. Pursuant to section 707(b) of the Act, the collection of cash deposits at the rates listed above will begin on the date of publication of the ITC's final affirmative injury determination.

¹¹ See CVD Preliminary Determination.

Therefore, in accordance with section 703(d) of the Act, Commerce instructed CBP to terminate the suspension of liquidation and to liquidate, without regard to countervailing duties, unliquidated entries of metal lockers from China entered, or withdrawn from warehouse, for consumption, after April 12, 2021, the date on which the provisional measures expired. Suspension of liquidation will resume on the date of publication of the ITC's final affirmative injury determinations in the Federal Register.

Notification to Interested Parties

This notice constitutes the AD and CVD orders with respect to metal lockers from China pursuant to sections 706(a) and 736(a) of the Act. Interested parties can find a list of orders currently in effect at http://enforcement.trade.gov/stats/iastats1.html.

These orders are published in accordance with sections 706(a) and 736(a) of the Act and 19 CFR 351.211(b).

Dated: August 16, 2021.
Christian Marsh,
Acting Assistant Secretary for Enforcement and Compliance.

Appendix

Scope of the Orders

The scope of the orders covers certain metal lockers, with or without doors, and parts thereof (metal lockers). The subject metal lockers are secure metal storage devices less than 27 inches wide and less than 27 inches deep, whether floor standing, installed onto a base or wall-mounted. In a multiple locker assembly (whether a welded locker unit, otherwise assembled locker unit or knocked down unit or kit), the width measurement shall be based on the width of an individual locker not the overall unit dimensions. All measurements in this scope are based on actual measurements taken on the outside dimensions of the single-locker unit. The height is the vertical measurement from the bottom to the top of the unit. The width is the horizontal (side to side) measurement of the front of the unit, and the front of the unit is the face with the door or doors or the opening for internal access of the unit if configured without a door. The depth is the measurement from the front to the back of the unit. The subject certain metal lockers typically include the bodies (back, side, shelf, top and bottom panels), door frames with or without doors which can be integrated into the sides or made separately, and doors.

The subject metal lockers typically are made of flat-rolled metal, metal mesh and/or expanded metal, which includes but is not limited to alloy or non-alloy steel (whether or not galvanized or otherwise metallically coated for corrosion resistance), stainless steel, or aluminum, but the doors may also include transparent polycarbonate, Plexiglas or similar transparent material or any combination thereof. Metal mesh refers to both wire mesh and expanded metal mesh. Wire mesh is a wire product in which the horizontal and transverse wires are welded at the cross-section in a grid pattern. Expanded metal mesh is made by slitting and stretching metal sheets to make a screen of diamond or other shaped openings.

Where the product has doors, the doors are typically configured with or for a handle or other device or other means that permit the use of a mechanical or electronic lock or locking mechanism, including, but not limited to: A combination lock, a padlock, a key lock (including cylinder locks) lever or knob lock, electronic key pad, or other electronic or wireless lock. The handle and locking mechanism, if included, need not be integrated into one another. The subject locker may or may not also enter with the lock or locking device included or installed. The doors or body panels may also include vents (including wire mesh or expanded metal mesh vents) or perforations. The bodies, body components and doors are typically powder coated, otherwise painted or epoxy coated or may be unpainted. The subject merchandise includes metal lockers imported either as welded or otherwise assembled units (ready for installation or use) or as knocked down units or kits (requiring assembly prior to installation or use).

The subject lockers may be shipped as individual or multiple locker units preassembled, welded, or combined into banks or tiers for ease of installation or as sets of component parts, bulk packed (i.e., all backs in one package, crate, rack, carton or container and sides in another package, crate, rack, carton or container) or any combination thereof. The knocked down lockers are shipped unassembled requiring a supplier, contractor or end-user to assemble the individual lockers and locker banks prior to installation.

The scope also includes all parts and components of lockers made from flat-rolled metal or expanded metal (e.g., doors, frames, shelves, tops, bottoms, backs, side panels, etc.) as well as accessories that are attached to the lockers when installed (including, but not limited to, slope tops, bases, expansion filler panels, dividers, recess trim, decorative end panels, and end caps) that may be imported together with lockers or other locker components or on their own. The particular accessories listed for illustrative purposes are defined as follows:

a. Slope tops: Slope tops are slanted metal panels or units that fit on the tops of the lockers and that slope from back to front to prevent the accumulation of dust and debris on top of the locker and to discourage the use of the tops of lockers as storage areas. Slope tops come in various configurations including, but not limited to, unit slope tops (in place of flat tops), slope hoods made of a back, top and end pieces which fit over multiple units and convert flat tops to a sloping tops, and slope top kits that convert flat tops to sloping tops and include tops, backs and ends.

b. Bases: Locker bases are panels made from flat-rolled metal that either conceal the legs of the locker unit, or for lockers without legs, provide a toe space in the front of the locker and conceal the flanges for floor anchoring.

c. Expansion filler panel: Expansion filler panels or fillers are metal panels that attach to locker units to cover columns, pipes or other obstacles in a row of lockers or fill in gaps between the locker and the wall. Fillers may also include metal panels that are used on the sides or the top of the lockers to fill gaps.

d. Dividers: Dividers are metal panels that divide the space within a locker unit into different storage areas.

e. Recess trim: Recess trim is a narrow metal trim that bridges the gap between lockers and walls or soffits when lockers are recessed into a wall.

f. Decorative end panels: End panels fit onto the exposed ends of locker units to cover holes, bolts, nuts, screws and other fasteners. They typically are painted to match the lockers.

g. End caps: End caps fit onto the exposed ends of locker units to cover holes, bolts, nuts, screws and other fasteners.

The scope also includes all hardware for assembly and installation of the lockers and locker banks that are imported with or shipped, invoiced, or sold with the imported locker or locker system except the lock.

Excluded from the scope are wire mesh lockers. Wire mesh lockers are those with each of the following characteristics:

(1) At least three sides, including the door, made from wire mesh;

(2) the width and depth each exceed 25 inches; and

(3) the height exceeds 90 inches.

Also excluded are lockers with bodies made entirely of plastic, wood, or any nonmetallic material.

Also excluded are exchange lockers with multiple individual locking doors mounted on one master locking door to access multiple units. Excluded exchange lockers have multiple individual storage spaces, typically arranged in tiers, with access doors for each of the multiple individual storage space mounted on a single frame that can be swung open to allow access to all of the individual storage spaces at once. For example, uniform or garment exchange lockers are designed for the distinct function of securely and hygienically exchanging clean and soiled uniforms. Thus, excluded exchange lockers are a multi-access point locker whereas covered lockers are a single access point locker for personal storage. The excluded exchange lockers include assembled exchange lockers and those that enter in `knock down' form in which all of the parts and components to assemble a completed exchange locker unit are packaged together. Parts for exchange lockers that are imported separately from the exchange lockers in `knock down' form are not excluded.

Also excluded are metal lockers that are imported with an installed electronic, internet-enabled locking device that permits communication or connection between the locker's locking device and other internet connected devices.

Also excluded are locks and hardware and accessories for assembly and installation of the lockers, locker banks and storage systems that are separately imported in bulk and are not incorporated into a locker, locker system or knocked down kit at the time of importation. Such excluded hardware and accessories include but are not limited to locks and bulk imported rivets, nuts, bolts, hinges, door handles, door/frame latching components, and coat hooks. Accessories of sheet metal, including but not limited to end panels, bases, dividers and sloping tops, are not excluded accessories.

Mobile tool chest attachments that meet the physical description above are covered by the scope of the orders, unless such attachments are covered by the scope of the orders on certain tool chests and cabinets from China. If the orders on certain tool chests and cabinets from China are revoked, the mobile tool chest attachments from China will be covered by the scope of the orders.

The scope also excludes metal safes with each of the following characteristics: (1) Pry resistant, concealed hinges; (2) body walls and doors of steel that are at least 17 gauge (0.05625 inch or 1.42874 mm thick); and (3) an integrated locking mechanism that includes at least two round steel bolts 0.75 inch (19 mm) or larger in diameter; or three bolts 0.70 inch (17.78 mm) or more in diameter; or four or more bolts at least 0.60 inch (15.24 mm) or more in diameter, that project from the door into the body or frame of the safe when in the locked position.

The scope also excludes gun safes meeting each of the following requirements:

(1) Shall be able to fully contain firearms and provide for their secure storage.

(2) Shall have a locking system consisting of at minimum a mechanical or electronic combination lock. The mechanical or electronic combination lock utilized by the safe shall have at least 10,000 possible combinations consisting of a minimum three numbers, letters, or symbols. The lock shall be protected by a casehardened (Rc 60+) drill-resistant steel plate, or drill-resistant material of equivalent strength.

(3) Boltwork shall consist of a minimum of three steel locking bolts of at least ½ inch thickness that intrude from the door of the safe into the body of the safe or from the body of the safe into the door of the safe, which are operated by a separate handle and secured by the lock.

(4) The exterior walls shall be constructed of a minimum 12-gauge thick steel for a single-walled safe, or the sum of the steel walls shall add up to at least 0.100 inches for safes with walls made from two pieces of flat-rolled steel.

(5) Doors shall be constructed of a minimum one layer of 7-gauge steel plate reinforced construction or at least two layers of a minimum 12-gauge steel compound construction.

(6) Door hinges shall be protected to prevent the removal of the door. Protective features include, but are not limited to: Hinges not exposed to the outside, interlocking door designs, dead bars, jeweler's lugs and active or inactive locking bolts.

The scope also excludes metal storage devices that (1) have two or more exterior exposed drawers regardless of the height of the unit, or (2) are no more than 30 inches tall and have at least one exterior exposed drawer.

Also excluded from the scope are free standing metal cabinets less than 30 inches tall with a single opening, single door and an installed tabletop.

The scope also excludes metal storage devices less than 27 inches wide and deep that: (1) Have two doors hinged on the right and left side of the door frame respectively covering a single opening and that open from the middle toward the outer frame; or (2) are free standing or wall-mounted, single-opening units 20 inches or less high with a single door.

The subject certain metal lockers are classified under Harmonized Tariff Schedule of the United States (HTSUS) subheading 9403.20.0078. Parts of subject certain metal lockers are classified under HTS subheading 9403.90.8041. In addition, subject certain metal lockers may also enter under HTS subheading 9403.20.0050. While HTSUS subheadings are provided for convenience and Customs purposes, the written description of the scope of the orders is dispositive.

[FR Doc. 2021-17865 Filed 8-19-21; 8:45 am]

BILLING CODE 3510-DS-P